DEPARTMENT OF ENERGY

10 CFR Part 431

[Docket No. EERE-2011-BT-DET-0045]

RIN 1904-AC55

Energy Conservation Program for Consumer Products and Certain Commercial and Industrial Equipment: Proposed Determination of Commercial and Industrial Fans, Blowers, and Fume Hoods as Covered Equipment

AGENCY: Office of Energy Efficiency and Renewable Energy, Department of Energy.

ACTION: Notice of proposed determination of coverage.

SUMMARY: The U.S. Department of Energy (DOE) proposes to determine that commercial and industrial fans, blowers, and fume hoods meet the criteria for covered equipment under Part A-1 of Title III of the Energy Policy and Conservation Act (EPCA), as amended. DOE proposes that classifying equipment of such type as covered equipment is necessary to carry out the purpose of Part A-1 of EPCA, which is to improve the efficiency of electric motors and pumps and certain other industrial equipment to conserve the energy resources of the nation.

DATES: DOE will accept written comments, data, and information on this notice, but no later than July 28, 2011.

ADDRESSES: Interested persons may submit comments, identified by docket number EERE-2011-BT-DET-0045 or RIN 1904-AC55), by any of the following methods:

• Federal eRulemaking Portal: http://www.regulations.gov. Follow the instructions for submitting comments.

• E-mail: FansBlowersHoods-2011-DET-0045@ee.doe.gov. Include EERE-2011-BT-DET-0045 and/or RIN 1904-AC55) in the subject line of the message.

• Mail: Ms. Brenda Edwards, U.S. Department of Energy, Building Technologies Program, Mailstop EE-2J, Notice of Proposed Determination for Fans, Blowers, and Fume Hoods, EERE-2011-BT-DET-0045 and/or RIN 1904-AC55, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Instructions: All submissions received must include the agency name and docket number or RIN for this rulemaking.

Docket: For access to the docket to read background documents, a copy of the transcript of the public meeting, or comments received, go to the U.S. Department of Energy, 6th Floor, 950 L'Enfant Plaza SW., Washington, DC 20024, (202) 586-2945, between 9 a.m. and 4 p.m., Monday through Friday, except Federal holidays. Please call Ms. Brenda Edwards at (202) 586-2945 for additional information.

FOR FURTHER INFORMATION CONTACT: Mr. Charles Llenza, U.S. Department of Energy, Office of Energy Efficiency and Renewable Energy, Building Technologies, EE-2J, 1000 Independence Avenue, SW., Washington, DC 20585-0121, Telephone: (202) 586-2192. E-mail: Charles.Llenza@ee.doe.gov.

In the Office of General Counsel, contact Ms. Elizabeth Kohl, U.S. Department of Energy, Office of the General Counsel, GC-71, 1000 Independence Avenue, SW., Washington, DC 20585. Telephone: (202) 586-7796. E-mail: Elizabeth.Kohl@hq.doe.gov.

SUPPLEMENTARY INFORMATION:

Table of Contents

I. Statutory Authority

II. Current Rulemaking Process

III. Definition(s)

IV. Evaluation of Fans, Blowers, and Fume Hoods as a Covered Equipment

A. Energy Consumption in Operation

B. Distribution in Commerce

C. Prior Inclusion as a Covered Product

D. Coverage Necessary To Carry Out Purposes of Part A-1 of EPCA

V. Procedural Issues and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act of 1999

I. Review Under Executive Order 12630

J. Review Under the Treasury and General Government Appropriations Act of 2001

K. Review Under Executive Order 13211

L. Review Under the Information Quality Bulletin for Peer Review

VI. Public Participation

A. Submission of Comments

B. Issues on Which DOE Seeks Comments

I. Statutory Authority

Title III of the Energy Policy and Conservation Act of 1975 (EPCA), as amended (42 U.S.C. 6291 et seq.), sets forth various provisions designed to improve energy efficiency. Part C of Title III of EPCA (42 U.S.C. 6311-6317), which was redesignated for editorial reasons as Part A-1 upon codification in the U.S. Code, establishes the “Energy Conservation Program for Certain Industrial Equipment,” which covers certain commercial and industrial equipment (hereafter referred to as “covered equipment”).

EPCA specifies a list of equipment that constitutes covered commercial and industrial equipment. (42 U.S.C. 6311(1)(A)-(L). The list includes 11 types of equipment and a catch-all provision for certain other types of industrial equipment classified as covered the Secretary of Energy (Secretary). EPCA also specifies the types of equipment that can be classified as covered in addition to the equipment enumerated in 42 U.S.C. 6311(1). This equipment includes fans and blowers. (42 U.S.C. 6311(2)(B)). Industrial equipment must also:

(1) Consume, or be designed to consume, energy in operation;

(2) To any significant extent, be distributed in commerce for industrial or commercial use;

(3) Not be a covered product as defined in 42 U.S.C. 6291(a)(2) of EPCA, other than a component of a covered product with respect to which there is in effect a determination under 42 U.S.C. 6312(c).

(42 U.S.C. 6311(2)(A)).

To classify equipment as covered commercial or industrial equipment, the Secretary must determine that classifying the equipment as covered equipment is necessary for the purposes of Part A-1 of EPCA. The purpose of Part A-1 is to improve the efficiency of electric motors, pumps and certain other industrial equipment to conserve the energy resources of the nation. (42 U.S.C. 6312(b))

II. Current Rulemaking Process

DOE has not previously conducted an energy conservation standard rulemaking for fans, blowers, and fume hoods. If after public comment, DOE issues a final determination of coverage for this equipment, DOE would consider both test procedures and energy conservation standards for this equipment.

With respect to test procedures, DOE would consider proposed test procedures for measuring the energy efficiency, energy use, or estimated annual operating cost of fans, blowers, and fume hoods during a representative average use cycle or period of use that are not unduly burdensome to conduct. (42 U.S.C. 6314(a)(2)) In a test procedure rulemaking, DOE initially prepares a test procedure notice of proposed rulemaking (NOPR) and allows interested parties to present oral and written data, views, and arguments with respect to such procedures. In prescribing new test procedures, DOE takes into account relevant information including technological developments relating to energy use or energy efficiency of fans, blowers, and fume hoods.

With respect to energy conservation standards, DOE typically prepares initially an energy conservation standards rulemaking framework document (the framework document). The framework document explains the issues, analyses, and process that it is considering for the development of energy conservation standards for fans, blowers, and fume hoods. After DOE receives comments on the framework document, DOE typically prepares an energy conservation standards rulemaking preliminary analysis and technical support document (the preliminary analysis). The preliminary analysis typically provides initial draft analyses of potential energy conservation standards on consumers, manufacturers, and the nation. Neither of these steps is legally required.

DOE is required to publish an energy conservation standards NOPR setting forth DOE's proposed energy conservations standards and a summary of the results of DOE's supporting technical analysis. The details of DOE's energy conservation standards analysis are provided in a technical support document (TSD) that describes the details of DOE's analysis of both the burdens and benefits of potential standards, pursuant to 42 U.S.C. 6295(o). DOE affords interested persons an opportunity during a period of not less than 60 days after the publication of the NOPR to provide oral and written comment. After receiving and considering the comments on the NOPR and not less than 90 days after the publication of the NOPR, DOE would issue the final rule prescribing any new energy conservation standards for fans, blowers, and fume hoods.

III. Definition(s)

DOE is considering a definition for “Commercial and Industrial Fans, Blowers, and Fume Hoods” to clarify coverage of any potential test procedure or energy conservation standard that may arise from today's proposed determination. Fans typically have a specific ratio, the ratio of discharge pressure to suction pressure, less than 1.11. Blowers typically have a specific ratio ranging from 1.11 to 1.20. Fume hoods are cabinets connected to a ventilation system, where the fan is either separated from the enclosed workspace or is part of the enclosure. There is currently no statutory definition of fans, blowers, or fume hoods, and DOE is considering the following definition of fans, blowers, and fume hoods to provide clarity for interested parties as it continues its analyses:

Fan

A fan is an electrically powered device used in commercial or industrial systems to provide a continuous flow of a gas, typically air, for ventilation, circulation, or other industrial process requirements. Fans are classified as axial or centrifugal. Axial fans move an airstream along the axis of the fan. Centrifugal fans generate airflow by accelerating the airstream radially. A fan may include some or all of the following components: motor and motor controls, rotor or fan blades, and transmission and housing.

Blower

A blower is a type of centrifugal fan.

Fume Hood

A fume hood is an enclosed workspace that uses an exhaust fan. Fume hoods are used in commercial or industrial laboratories or facilities to capture, contain, or exhaust hazardous fumes, vapors, or particulate matter generated inside the enclosed workspace. The fan energy use is primarily determined by the design and operating characteristics of the enclosed workspace.

DOE seeks feedback from interested parties on these definition(s) of fans, blowers, and fume hoods.

IV. Evaluation of Fans, Blowers, and Fume Hoods as a Covered Equipment

The following sections describe DOE's evaluation of whether fans, blowers, and fume hoods fulfill the criteria for being added as covered equipment pursuant to 42 U.S.C. 6311(2) and 42 U.S.C. 6312.

Fans and blowers are listed as types of industrial equipment under 42 U.S.C. 6311(2)(B), and fans are an integral part of a fume hood. The following discussion addresses DOE's consideration of the three requirements of 42 U.S.C. 6311(2)(A) and the requirement of 42 U.S.C. 6312.

A. Energy Consumption in Operation

DOE proposes to define fans, blowers, and fume hoods as `electrically powered'; fans, blowers, and fume hoods that meet DOE's definition consume energy in operation.

DOE estimates that commercial fans and blowers consume 139,533 million kWh of electricity per year, industrial fans and blowers consume 90,057 million kWh of electricity per year, and laboratory fume hoods consume 26,153 million kWh of electricity per year. The total amounts to 255,743 million kWh per year.

For commercial fans and blowers, DOE used the 2009 Annual Energy Outlook to find the 2006 value for the total energy consumption of commercial ventilation equipment ¹ and converted that value from quads of primary energy to millions of kWh. For industrial fans and blowers, DOE used the 2009 Manufacturing Energy Consumption Survey to find the breakdown of electricity use by industrial sector. Then, using the percentage of fans and blowers from an American Council for an Energy-Efficient Economy study to calculate fan and blower electricity use by industrial sector ², DOE calculated the total industrial fans and blower electricity usage.

¹ Based on 2009 Annual Energy Outlook, Table 5A, pg. 120, U.S. Energy Information Administration.

² Based on Energy Efficiency and Electric Motors, Report PB-259 129, A.D. Little, Inc. 1976., U.S. Federal Energy Administration, Office of Industrial Programs. Springfield, VA: National Technical Information Service.

For fume hoods, DOE used a Lawrence Berkeley National Laboratory study, which determined the energy use based on conservative estimates on number of fume hood units and their power draw in 2003.³ Because DOE could not find any data on the growth of the fume hood market, it conservatively assumed that fume hoods consumed the same amount of power in 2006.

³ Based on Energy Use and Savings Potential for Laboratory Fume Hoods, Evan Mills and Dale Sartor, Lawrence Berkeley National Laboratory, Energy Analysis Department, April 2006. LBNL-55400.

B. Distribution in Commerce

Fans, blowers and fume hoods are distributed in commerce for both the industrial and commercial sectors. Based on 2002 U.S. Census Data, DOE estimated that 650,000 motors are shipped annually to drive fans and blowers in the commercial and industrial sectors.⁴ Based on additional 2004 U.S. Census data, DOE assumes that only small fraction ⁵ of these motors are used as a motor only replacement in fan systems.

⁴ U.S. Census Bureau. Economic Census 2002, Industry Statistics Sampler: NAICS 333412, Industrial and Commercial Fan and Blower Manufacturing.

⁵ U.S. Census Bureau, MA335H(03)-1, issued Nov 2004.

Shipments of fume hoods were estimated by an industry source to be approximately 25,000 to 30,000 units/yr.⁶

⁶ Thomas Smith, President, Exposure Control Technologies, Inc., personal communication, 5/2011.

C. Prior Inclusion as a Covered Product

Fans, blowers and fume hoods are not currently included as covered products under 10 CFR Part 430.

D. Coverage Necessary To Carry Out Purposes of Part A-1 of EPCA

The purpose of Part A-1 of EPCA is to improve the energy efficiency of electric motors, pumps and certain other industrial equipment to conserve the energy resources of the nation. Coverage of fans, blowers, and fume hoods is necessary to carry out the purposes of Part A-1 of EPCA because coverage will promote the conservation of energy supplies. DOE estimates that technologies exist which can reduce the electricity consumption of fans and blowers by as much as 20%.⁷ DOE also believes that there are technologies and design strategies for fume hoods that could reduce energy by 50%.⁸

⁷ Martin, N., Worrel, E., et al. Emerging Energy Efficient Industrial Technologies, LBNL-46990, 10/2000.

⁸ Evan Mills and Dale Sartor, Lawrence Berkeley National Laboratory, Energy Analysis Department, July 2003.

Based on the information in section IV of this notice, DOE proposes to determine that commercial and industrial fans, blowers, and fume hoods qualify as covered equipment under Part A-1 of Title III of EPCA, as amended (42 U.S.C. 6311 et seq.).

V. Procedural Issues and Regulatory Review

A. Review Under Executive Order 12866

The Office of Management and Budget has determined that coverage determination rulemakings do not constitute “significant regulatory actions” under section 3(f) of Executive Order 12866, Regulatory Planning and Review, 58 FR 51735 (Oct. 4, 1993). Accordingly, this proposed action was not subject to review under the Executive Order by the Office of Information and Regulatory Affairs (OIRA) in the Office of Management and Budget (OMB).

B. Review Under the Regulatory Flexibility Act

The Regulatory Flexibility Act (5 U.S.C. 601 et seq., as amended by the Small Business Regulatory Enforcement Fairness Act of 1996), requires preparation of an initial regulatory flexibility analysis for any rule that, by law, must be proposed for public comment, unless the agency certifies that the proposed rule, if promulgated, will not have a significant economic impact on a substantial number of small entities. A regulatory flexibility analysis examines the impact of the rule on small entities and considers alternative ways of reducing negative effects. Also, as required by E.O. 13272, “Proper Consideration of Small Entities in Agency Rulemaking” 67 FR 53461 (August 16, 2002), DOE published procedures and policies on February 19, 2003, to ensure that the potential impact of its rules on small entities are properly considered during the DOE rulemaking process. 68 FR 7990 (February 19, 2003). DOE makes its procedures and policies available on the Office of the General Counsel's Web site at http://www.gc.doe.gov.

DOE reviewed today's proposed determination under the provisions of the Regulatory Flexibility Act and the policies and procedures published on February 19, 2003. If adopted, today's proposed determination would set no standards and would only positively determine that future standards may be warranted and should be explored in an energy conservation standards rulemaking. The proposed determination also does not establish any test procedures. If a positive determination is made, DOE would consider test procedures in a subsequent rulemaking. Economic impacts on small entities would be considered in the context of such rulemakings. On the basis of the foregoing, DOE certifies that the proposed determination, if adopted, would have no significant economic impact on a substantial number of small entities. Accordingly, DOE has not prepared a regulatory flexibility analysis for this proposed determination. DOE will transmit this certification and supporting statement of factual basis to the Chief Counsel for Advocacy of the Small Business Administration for review under 5 U.S.C. 605(b).

C. Review Under the Paperwork Reduction Act of 1995

This proposed determination, which proposes to determine that fans, blowers, and fume hoods meet the criteria for classification as covered equipment, will impose no new information or recordkeeping requirements. Accordingly, the Office of Management and Budget (OMB) clearance is not required under the Paperwork Reduction Act. (44 U.S.C. 3501 et seq.)

D. Review Under the National Environmental Policy Act of 1969

In this notice, DOE proposes to positively determine that fans, blowers and fume hoods meet the criteria for classification as covered equipment. Environmental impacts would be explored in any future energy conservation standards rulemaking for fans, blowers and fume hoods. DOE has determined that review under the National Environmental Policy Act of 1969 (NEPA), Public Law 91-190, codified at 42 U.S.C. 4321 et seq. is not required at this time. NEPA review can only be initiated “as soon as environmental impacts can be meaningfully evaluated” (10 CFR 1021.213(b)). This proposed determination would only determine that fans, blowers and fume hoods meet the criteria for classification as covered equipment, but would not itself propose to set any specific standard. DOE has, therefore, determined that there are no environmental impacts to be evaluated at this time. Accordingly, neither an environmental assessment nor an environmental impact statement is required.

E. Review Under Executive Order 13132

Executive Order (E.O.) 13132, “Federalism” 64 FR 43255 (August 10, 1999), imposes certain requirements on agencies formulating and implementing policies or regulations that preempt State law or that have Federalism implications. The Executive Order requires agencies to examine the constitutional and statutory authority supporting any action that would limit the policymaking discretion of the States and to assess carefully the necessity for such actions. The Executive Order also requires agencies to have an accountable process to ensure meaningful and timely input by State and local officials in developing regulatory policies that have Federalism implications. On March 14, 2000, DOE published a statement of policy describing the intergovernmental consultation process that it will follow in developing such regulations. 65 FR 13735 (March 14, 2000). DOE has examined today's proposed determination and concludes that it would not preempt State law or have substantial direct effects on the States, on the relationship between the Federal government and the States, or on the distribution of power and responsibilities among the various levels of government. EPCA governs and prescribes Federal preemption of State regulations as to energy conservation for the equipment that is the subject of today's proposed determination. States can petition DOE for exemption from such preemption to the extent permitted, and based on criteria, set forth in EPCA. (42 U.S.C. 6297) No further action is required by E.O. 13132.

F. Review Under Executive Order 12988

With respect to the review of existing regulations and the promulgation of new regulations, section 3(a) of E.O. 12988, “Civil Justice Reform” 61 FR 4729 (February 7, 1996), imposes on Federal agencies the duty to: (1) Eliminate drafting errors and ambiguity; (2) write regulations to minimize litigation; (3) provide a clear legal standard for affected conduct rather than a general standard; and (4) promote simplification and burden reduction. Section 3(b) of E.O. 12988 specifically requires that Executive agencies make every reasonable effort to ensure that the regulation specifies the following: (1) The preemptive effect, if any; (2) any effect on existing Federal law or regulation; (3) a clear legal standard for affected conduct while promoting simplification and burden reduction; (4) the retroactive effect, if any; (5) definitions of key terms; and (6) other important issues affecting clarity and general draftsmanship under any guidelines issued by the Attorney General. Section 3(c) of E.O. 12988 requires Executive agencies to review regulations in light of applicable standards in sections 3(a) and 3(b) to determine whether these standards are met, or whether it is unreasonable to meet one or more of them. DOE completed the required review and determined that, to the extent permitted by law, this proposed determination meets the relevant standards of E.O. 12988.

G. Review Under the Unfunded Mandates Reform Act of 1995

Title II of the Unfunded Mandates Reform Act of 1995 (UMRA) (Pub. L. 104-4, codified at 2 U.S.C. 1501 et seq.) requires each Federal agency to assess the effects of Federal regulatory actions on State, local, and Tribal governments and the private sector. For regulatory actions likely to result in a rule that may cause expenditures by State, local, and Tribal governments, in the aggregate, or by the private sector of $100 million or more in any 1 year (adjusted annually for inflation), section 202 of UMRA requires a Federal agency to publish a written statement that estimates the resulting costs, benefits, and other effects on the national economy. (2 U.S.C. 1532(a) and (b)) UMRA requires a Federal agency to develop an effective process to permit timely input by elected officers of State, local, and Tribal governments on a proposed “significant intergovernmental mandate.” UMRA also requires an agency plan for giving notice and opportunity for timely input to small governments that may be potentially affected before establishing any requirement that might significantly or uniquely affect them. On March 18, 1997, DOE published a statement of policy on its process for intergovernmental consultation under UMRA. 62 FR 12820 (March 18, 1997). (This policy also is available at http://www.gc.doe.gov). DOE reviewed today's proposed determination pursuant to these existing authorities and its policy statement and determined that the proposed determination contains neither an intergovernmental mandate nor a mandate that may result in the expenditure of $100 million or more in any year, so the UMRA requirements do not apply.

H. Review Under the Treasury and General Government Appropriations Act of 1999

Section 654 of the Treasury and General Government Appropriations Act of 1999 (Pub. L. 105-277) requires Federal agencies to issue a Family Policymaking Assessment for any rule that may affect family well-being. This proposed determination would not have any impact on the autonomy or integrity of the family as an institution. Accordingly, DOE has concluded that it is not necessary to prepare a Family Policymaking Assessment.

I. Review Under Executive Order 12630

Pursuant to E.O. 12630, “Governmental Actions and Interference with Constitutionally Protected Property Rights” 53 FR 8859 (March 15, 1988), DOE determined that this proposed determination would not result in any takings that might require compensation under the Fifth Amendment to the U.S. Constitution.

J. Review Under the Treasury and General Government Appropriations Act of 2001

The Treasury and General Government Appropriation Act of 2001 (44 U.S.C. 3516, note) requires agencies to review most disseminations of information they make to the public under guidelines established by each agency pursuant to general guidelines issued by the Office of Management and Budget (OMB). The OMB's guidelines were published at 67 FR 8452 (February 22, 2002), and DOE's guidelines were published at 67 FR 62446 (October 7, 2002). DOE has reviewed today's proposed determination under the OMB and DOE guidelines and has concluded that it is consistent with applicable policies in those guidelines.

K. Review Under Executive Order 13211

E.O. 13211, “Actions Concerning Regulations That Significantly Affect Energy Supply, Distribution, or Use,” 66 FR 28355 (May 22, 2001), requires Federal agencies to prepare and submit to OMB a Statement of Energy Effects for any proposed significant energy action. A “significant energy action” is defined as any action by an agency that promulgates a final rule or is expected to lead to promulgation of a final rule, and that: (1) Is a significant regulatory action under E.O. 12866, or any successor order; and (2) is likely to have a significant adverse effect on the supply, distribution, or use of energy; or (3) is designated by the Administrator of the Office of Information and Regulatory Affairs (OIRA) as a significant energy action. For any proposed significant energy action, the agency must give a detailed statement of any adverse effects on energy supply, distribution, or use if the proposal is implemented, and of reasonable alternatives to the proposed action and their expected benefits on energy supply, distribution, and use.

DOE has concluded that today's regulatory action proposing to determine that fans, blowers, and fume hoods meet the criteria for classification as covered equipment would not have a significant adverse effect on the supply, distribution, or use of energy. This action is also not a significant regulatory action for purposes of E.O. 12866, and the OIRA Administrator has not designated this proposed determination as a significant energy action under E.O. 12866 or any successor order. Therefore, this proposed determination is not a significant energy action. Accordingly, DOE has not prepared a Statement of Energy Effects for this proposed determination.

L. Review Under the Information Quality Bulletin for Peer Review

On December 16, 2004, OMB, in consultation with the Office of Science and Technology Policy (OSTP), issued its Final Information Quality Bulletin for Peer Review (the Bulletin). 70 FR 2664 (January 14, 2005). The Bulletin establishes that certain scientific information shall be peer reviewed by qualified specialists before it is disseminated by the Federal government, including influential scientific information related to agency regulatory actions. The purpose of the Bulletin is to enhance the quality and credibility of the Government's scientific information. DOE has determined that the analyses conducted for this rulemaking do not constitute “influential scientific information,” which the Bulletin defines as “scientific information the agency reasonably can determine will have or does have a clear and substantial impact on important public policies or private sector decisions.” 70 FR 2667 (January 14, 2005). The analyses were subject to pre-dissemination review prior to issuance of this rulemaking.

DOE will determine the appropriate level of review that would be applicable to any future rulemaking to establish energy conservation standards for fans, blowers and fume hoods.

VI. Public Participation

A. Submission of Comments

DOE will accept comments, data, and information regarding this notice of proposed determination no later than the date provided at the beginning of this notice. After the close of the comment period, DOE will review the comments received and determine whether fans, blowers, fume hoods is covered equipment under EPCA.

Comments, data, and information submitted to DOE's e-mail address for this proposed determination should be provided in WordPerfect, Microsoft Word, PDF, or text (ASCII) file format. Submissions should avoid the use of special characters or any form of encryption, and wherever possible comments should include the electronic signature of the author. No telefacsimiles (faxes) will be accepted.

According to 10 CFR Part 1004.11, any person submitting information that he or she believes to be confidential and exempt by law from public disclosure should submit two copies: One copy of the document should have all the information believed to be confidential deleted. DOE will make its own determination as to the confidential status of the information and treat it according to its determination.

Factors of interest to DOE when evaluating requests to treat submitted information as confidential include (1) a description of the items; (2) whether and why such items are customarily treated as confidential within the industry; (3) whether the information is generally known or available from public sources; (4) whether the information has previously been made available to others without obligations concerning its confidentiality; (5) an explanation of the competitive injury to the submitting persons which would result from public disclosure; (6) a date after which such information might no longer be considered confidential; and (7) why disclosure of the information would be contrary to the public interest.

B. Issues on Which DOE Seeks Comments

DOE welcomes comments on all aspects of this proposed determination. DOE is particularly interested in receiving comments from interested parties on the following issues related to the proposed determination for fans, blowers, and fume hoods:

• Definition of fans;

• Definition of blowers;

• Definitions of fume hoods;

• Whether classifying fans, blowers, and fume hoods as covered equipment is necessary to carry out the purposes of Part A-1 of EPCA; and

• Availability or lack of availability of technologies for improving the energy efficiency of fans, blowers, and fume hoods.

DOE invites all interested parties to submit, in writing and by July 28, 2011, comments and information on matters addressed in this notice and on other matters relevant to a determination for fans, blowers, and fume hoods. DOE is also interested in receiving views concerning other issues relevant to establishing test procedures and energy conservation standards for fans, blowers, and fume hoods.

After the expiration of the period for submitting written statements, DOE will consider all comments and additional information that is obtained from interested parties or through further analyses, and it will prepare a final determination. If DOE determines that fans, blowers, and fume hoods qualify as covered equipment, DOE will consider a test procedure and energy conservation standards for fans, blowers, and fume hoods. Members of the public will be given an opportunity to submit written and oral comments on any proposed test procedure and standards.

Issued in Washington, DC, on June 21, 2011.
Kathleen B. Hogan,
Deputy Assistant Secretary, Energy Efficiency and Renewable Energy.

[FR Doc. 2011-16134 Filed 6-27-11; 8:45 am]

BILLING CODE 6450-01-P